ENVIRONMENTAL PROTECTION AGENCY

[FRL-8488-8]

Clean Water Act Section 303(d): Availability of 20 Total Maximum Daily Loads (TMDL) in Louisiana

AGENCY: Environmental Protection Agency (EPA).

ACTION: Notice of availability.

SUMMARY: This notice announces the availability for comment of the administrative record files for 20 TMDLs and the calculations for these TMDLs prepared by EPA Region 6 for waters listed in the Red and the Terrebonne Basins of Louisiana, under section 303(d) of the Clean Water Act (CWA). These TMDLs were completed in response to a court order in the lawsuit styled Sierra Club, et al. v. Clifford, et al., No. 96-0527, (E.D. La.).

DATES: Comments must be submitted in writing to EPA on or before November 29, 2007.

ADDRESSES: Comments on the 20 TMDLs should be sent to Diane Smith, Environmental Protection Specialist, Water Quality Protection Division, U.S. Environmental Protection Agency Region 6, 1445 Ross Ave., Dallas, TX 75202-2733 or e-mail: smith.diane@epa.gov. For further information, contact Diane Smith at (214) 665-2145 or fax 214.665.7373. The administrative record files for the 20 TMDLs are available for public inspection at this address as well. Documents from the administrative record files may be viewed at http://www.epa.gov/earth1r6/6wq/npdes/tmdl/index.htm, or obtained by calling or writing Ms. Smith at the above address. Please contact Ms. Smith to schedule an inspection.

FOR FURTHER INFORMATION CONTACT: Diane Smith at (214) 665-2145.

SUPPLEMENTARY INFORMATION: In 1996, two Louisiana environmental groups, the Sierra Club and Louisiana Environmental Action Network (plaintiffs), filed a lawsuit in Federal Court against the EPA, styled Sierra Club, et al. v. Clifford, et al., No. 96-0527, (E.D. La.). Among other claims, plaintiffs alleged that EPA failed to establish Louisiana TMDLs in a timely manner. EPA proposes 15 of these TMDLs pursuant to a consent decree entered in this lawsuit.

EPA Seeks Comment on 20 TMDLs

By this notice EPA is seeking comment on the following 20 TMDLs for waters located within Louisiana basins:

Subsegment | Waterbody name | Pollutant
100404 | Cypress Bayou Reservoir | Dissolved Oxygen.
100405 | Black Bayou (including Black Bayou Reservoir) | Dissolved Oxygen.
120202 | Bayou Black—Intracoastal Waterway to Houma | Nutrients and Dissolved Oxygen.
120204 | Lake Verret and Grassy Lake | Nutrients and Dissolved Oxygen.
120304 | Intracoastal Waterway—Houma to Larose | Nutrients and Dissolved Oxygen.
120401 | Bayou Penchant—Bayou Chene to Lake Penchant | Dissolved Oxygen.
120403 | Intracoastal Waterway—Bayou Boeuf Lake Penchant | Dissolved Oxygen.
120404 |  | Dissolved Oxygen.
120405 | Lake Hache, Lake Theriot | Nutrients and Dissolved Oxygen.
120406 | Lake de Cade | Nutrients and Dissolved Oxygen.
120604 | Bayou Blue—Intracoastal Waterway to boundary between segments 1206 and 1207 | Dissolved Oxygen.
120708 | Lost Lake, Four League Bay | Nutrients and Dissolved Oxygen.
120709 | Bayou Petite Cailou—From Houma Navigation Canal to Terrebonne Bay | Nutrients and Dissolved Oxygen.

EPA requests that the public provide to EPA any water quality related data and information that may be relevant to the calculations for the 20 TMDLs. EPA will review all data and information submitted during the public comment period and revise the TMDLs where appropriate. EPA will then forward the TMDLs to the Louisiana Department of Environmental Quality (LDEQ). The LDEQ will incorporate the TMDLs into its current water quality management plan.

Dated: October 23, 2007.
James R. Brown,
Chief, Planning and Analysis Branch, EPA Region 6.

[FR Doc. E7-21322 Filed 10-29-07; 8:45 am]

BILLING CODE 6560-50-P